DEPARTMENT OF TRANSPORTATION

Federal Aviation Administration

14 CFR Part 39

[Docket No. 2002-CE-18-AD; Amendment 39-13406; AD 2003-09-09 R1]

RIN 2120-AA64

Airworthiness Directives; Cessna Aircraft Company Models 441 and F406 Airplanes

AGENCY: Federal Aviation Administration, DOT.

ACTION: Final rule

SUMMARY: This amendment revises Airworthiness Directive (AD) 2003-09-09, which applies to certain Cessna Aircraft Company (Cessna) Models 441 and F406 airplanes. AD 2003-09-09 currently requires repetitively inspecting the fuel boost pump wiring inside and outside the boost pump reservoir and repair or replacement of the wiring as necessary. AD 2003-09-09 also requires eventual installation of an improved design wire harness and fuel boost pump as terminating action for the repetitive inspections. The way the compliance time is currently written puts certain airplane owners/operators in non-compliance with the AD. Also, the terminating action for the repetitive inspections did not provide the option of installing the protective sleeving modification for boost pump lead wires. This document clarifies and corrects the compliance time and provides the option of installing the protective sleeving modification for boost pump lead wires. The actions specified by this AD are intended to detect, correct, and prevent chafing and/or arcing of the fuel boost pump wiring, which could result in arcing within the wing fuel storage system. This condition could lead to ignition of explosive vapor within the fuel storage system.

DATES: This AD becomes effective on January 22, 2004.

The Director of the Federal Register previously approved the incorporation by reference of certain publications listed in the regulations as of June 24, 2003 (68 FR 23186, May 1, 2003).

ADDRESSES: You may get the service information referenced in this AD from Cessna Aircraft Company, Product Support, P.O. Box 7706, Wichita, Kansas 67277; telephone: (316) 517-5800; facsimile: (316) 942-9006. You may view this information at the Federal Aviation Administration (FAA), Central Region, Office of the Regional Counsel, Attention: Rules Docket No. 2002-CE-18-AD, 901 Locust, Room 506, Kansas City, Missouri 64106; or at the Office of the Federal Register, 800 North Capitol Street, NW., suite 700, Washington, DC.

FOR FURTHER INFORMATION CONTACT: Robert Adamson, Aerospace Engineer, FAA, Wichita Aircraft Certification Office, 1801 Airport Road, Room 100, Wichita, Kansas 67209; telephone: 316-946-4145; facsimile: 316-946-4107.

SUPPLEMENTARY INFORMATION:

Discussion

What Prior AD Action Did FAA Take on This Subject?

We issued AD 2003-09-09, Amendment 39-13138 (68 FR 23186, May 1, 2003), in order to detect, correct, and prevent chafing and/or arcing of the fuel boost pump wiring on certain Cessna Models 441 and F406 airplanes. This AD currently requires repetitively inspecting the fuel boost pump wiring inside and outside the boost pump reservoir and repair or replacement of the wiring as necessary, and requires eventual installation of an improved design wire harness and fuel boost pump as terminating action for the repetitive inspections. AD 2003-09-09 superseded AD 2002-09-13, which required only a one-time inspection and repair or replacement of the wiring as necessary on Model 441 airplanes.

What Has Happened To Necessitate Further AD Action?

We established the compliance time of AD 2003-09-09 to coincide with the initial inspection of AD 2002-09-13. The compliance time is currently written as:

“Initially at whichever occurs first, unless already accomplished: Within the next 25 hours time-in-service (TIS) or 60 days after May 31, 2002 (the effective date of AD 2002-09-13): Repetitively thereafter at intervals not to exceed 200 hours TIS.”

The FAA has found that there are a few airplanes that have already accumulated more than 200 hours TIS after the last inspection required by AD-2002-09-13. The way the compliance time is currently written puts these airplane owners/operators in non-compliance with the AD.

This was not FAA's intent. Our intent was to give every owner/operator of the affected airplanes a grace period for accomplishing the AD without jeopardizing the safety of these airplanes.

The option of installing the protective sleeving modification for boost pump lead wires is included in the service information. However, AD 2003-09-09 did not address this option. It is FAA's intent that the AD provide this option for the affected airplanes.

Consequently, FAA sees a need to clarify and correct AD 2003-09-09 to assure that every owner/operator of the affected airplanes is able to comply with the AD action.

Correction of Publication

What Is the Purpose of This Document?

This document clarifies the intent of the compliance time of AD 2003-09-09, adds the option of installing the protective sleeving modification, and adds the amendment to section 39.13 of the Federal Aviation Regulations (14 CFR 39.13).

Is It Necessary To Seek Public Input?

Since this action only clarifies the intent of the compliance time and provides a compliance option, it has no adverse economic impact and imposes no additional burden on any person than would have been necessary to comply with AD 2003-09-09. Therefore, FAA has determined that prior notice and opportunity for public comment are unnecessary.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by removing airworthiness Directive (AD) 2003-09-09, Amendment 39-13138 (68 FR 23186, May 1, 2003), and by adding a new AD to read as follows:

2003-09-09 R1 Cessna Aircraft Company: Amendment 39-13406; Docket No. 2002-CE-18-AD; Revises AD 2003-09-09; which superseded AD 2002-09-13, Amendment 39-12746.

(a) What airplanes are affected by this AD? This AD affects the following airplane models and serial numbers that are certificated in any category:

Model | Serial numbers
441 | 0001 through 0362 and 698
F406 | 0001 through 0089

(b) Who must comply with this AD? Anyone who wishes to operate any of the airplanes identified in paragraph (a) of this AD must comply with this AD.

(c) What problem does this AD address? The actions specified by this AD are intended to detect, correct, and prevent chafing and/or arcing fuel boost pump wiring, which could result in arcing within the wing fuel system. This condition could lead to ignition of explosive vapor within the fuel storage system.

(d) What actions must I accomplish to address this problem? To address this problem, you must accomplish the following:

Actions | Compliance | Procedures
(1) For Model 441 airplanes: Inspect the part number (P/N) 5718106-1 wire harness and fuel boost pump lead wires for chafing or damage | Initially inspect at whichever occurs later, unless already accomplished: Within the next 200 hours time-in-service (TIS) after the last inspection required by AD 2002-09-13 or within the next 25 hours TIS after June 24, 2003 (the effective date of AD 2003-09-09). Repetitively inspect thereafter at intervals not to exceed 200 hours TIS | Follow Cessna Conquest Service Bulletin No.: CQB02-1, Revision 2, dated October 7, 2002.
(2) For Model F406 airplanes: Inspect the P/N 5718106-4 wire harness and fuel boost pump lead wires for chafing or damage | Initially inspect at whichever occurs later, unless already accomplished: within the next 25 hours TIS or 60 days after June 24, 2003 (the effective date of AD 2003-0-09). Repetitively inspect thereafter at intervals not to exceed 200 hours TIS | Follow Reims/Cessna Caravan Service Bulletin No.: CAB02-8, dated June 3, 2002.
(3) If chafing or damage is found during any inspection required in paragraph (d)(1) or (d)(2) of this AD: (i) For Model 441 airplanes, replace the wire harnesses, repair fuel boost pump lead wires, or replace of fuel boost pump, as applicable (ii) For Model F406 airplanes, repair or replace the wire harnesses or lead wires, or fuel boost pump, as applicable | Before further flight after any inspection required in paragraphs (d)(1) and (d)(2) of this AD in which damage is found. If the improved design or repaired components are not installed per paragraphs (d)(3)(i), (d)(3)(ii), (d)(4)(i), and (d)(4)(ii), as applicable, then you must continue to repetitively inspect per paragraph (d)(1) or (d)(2) of this AD | For Model 441 airplanes: Follow Cessna Conquest Service Bulletin No.: CQB02-1, Revision 2, dated October 7, 2002. For Model F406 airplanes: Follow Reims/Cessna Caravan Service Bulletin No.: CAB2-8, dated June 3, 2002.
(4) Perform the installations of paragraph (d)(4)(i) or (d)(4)(ii) of this AD for Model 441 airplanes: (i) Install improved design fuel boost pump (P/N 1C12-17 or FAA-approved equivalent P/N) and improved design wire harness (P/N 5718106-6 or FAA-approved equivalent P/N) (ii) Install the protective sleeving modification for boost pump lead wires that are not damaged or any lead wires that exhibit any chafing of the sleeve or outer jacket (iii) Installing both improved part numbers in each wing tank or protective sleeving modification for the existing fuel boost pump lead wires terminates the repetitive inspection requirements of paragraph (d)(1) of this AD | Within the next 400 hours TIS after June 24, 2003 (the effective date of AD 2003-09-09), unless already accomplished | Follow Cessna conquest Service Bulletin No.: CQB02-1, Revision 2, dated October 7, 2002.
(5) Perform the installation in either (d)(5)(i) or (d)(5)(ii) of this AD for Model F406 airplanes: (i) Install improved design fuel boost pump (P/N 1C12-17 or FAA-approved equivalent P/N) and improved design wire harness (P/N 406 28 01 or FAA-approved equivalent P/N) (ii) Install the protective sleeving modification for boost pump lead wires that are not damaged or any lead wires that exhibit any chafing of the sleeve or outer jacket must be modified by installing a protective sleeving over the boost pump lead wires (iii) Installing both improved part numbers in each wing tank or protective sleeving modification for the existing fuel boost pump lead wires terminates the repetitive inspection requirements of paragraph (d)(2) of this AD | Within the next 400 hours TIS after June 24, 2003 (the effective date AD 2003-09-09), unless already accomplished | Follow Reims/Cessna Caravan Service Bulletin No.: CAB02-8, dated June 3, 2002.
(6) Removing the following warnings for Model 441 airplanes after compliance with Cessna Conquest Service Bulletin No.: CQB02-1, Revision 2, dated October 7, 2002: (i) “PRIOR TO THE INITIAL INSPECTION: THE AIRPLANE SHOULD NOT BE OPERATED WITH LESS THAN 300 POUNDS OF FUEL IN EACH WING.” (ii) “AFTER THE INITIAL INSPECTION: THE AIRPLANE SHOULD NOT BE OPERATED WHENEVER THE LEFT OR RIGHT LOW FUEL ANNUNCIATOR IS ILLUMINATED | As of June 24, 2003 (the effective date AD 2003-09-09) | Not applicable.
(7) Install only improved design wire harnesses and fuel boost pumps as specified in paragraphs (d)(4) and (d)(5) of this AD | As of June 24, 2003 (the effective date of AD 2003-09-09) | Not applicable.

(e) Can I comply with this AD in any other way?

(1) You may use an alternative method of compliance or adjust the compliance time if:

(i) Your alternative method of compliance provides an equivalent level of safety; and

(ii) The Manager, Wichita Aircraft Certification Office (ACO), approves your alternative. Submit your request through an FAA Principal Maintenance Inspector, who may add comments and then send it to the Manager, Wichita ACO.

(2) Alternative methods of compliance approved in accordance with AD 2003-09-09 or AD 2002-09-13 are approved as alternative methods of compliance for all inspection requirements of this AD. Regardless, you still must comply with the replacement requirements of this AD.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Robert Adamson, Aerospace Engineer, FAA, Wichita Aircraft Certification Office, 1801 Airport Road, Room 100, Wichita, Kansas 67209; telephone: 316-946-4145; facsimile: 316-946-4107.

(g) What if I need to fly the airplane to another location to comply with this AD? The FAA can issue a special flight permit under §§ 21.197 and 21.199 of the Federal Aviation Regulations (14 CFR 21.197 and 21.199) to operate your airplane to a location where you can accomplish the requirements of this AD.

(h) Are any service bulletins incorporated into this AD by reference? Actions required by this AD must be done following Cessna Conquest Service Bulletin No.: CQB02-1, Revision 2, dated October 7, 2002; and Reims Cessna Caravan Service Bulletin No.: CAB02-8, dated June 3, 2002. The Director of the Federal Register previously approved this incorporation by reference under 5 U.S.C. 552(a) and 1 CFR part 51 on June 24, 2003 (68 FR 23186, May 1, 2003). You may get copies from Cessna Aircraft Company, Product Support, P.O. Box 7706, Wichita, Kansas 67277; telephone: (316) 517-5800; facsimile: (316) 942-9006. You may view copies at the FAA, Central Region, Office of the Regional Counsel, 901 Locust, Room 506, Kansas City, Missouri, or at the Office of the Federal Register, 800 North Capitol Street, NW., suite 700, Washington, DC.

(i) Does this AD action affect any existing AD actions? This amendment revises AD 2002-09-13, Amendment 39-12746.

(j) When does this amendment become effective? This amendment becomes effective on January 22, 2004.

Issued in Kansas City, Missouri, on January 5, 2004.
Dorenda D. Baker,
Manager, Small Airplane Directorate, Aircraft Certification Service.

[FR Doc. 04-475 Filed 1-9-04; 8:45 am]

BILLING CODE 4910-13-P